OFFICE OF SCIENCE AND TECHNOLOGY POLICY

National Science and Technology Council

ACTION: Notice of Public Meeting.

SUMMARY: The National Nanotechnology Coordination Office (NNCO), on behalf of the Nanoscale Science, Engineering, and Technology (NSET) Subcommittee of the Committee on Technology, National Science and Technology Council (NSTC), will hold a workshop entitled “Quantifying Exposure to Engineered Nanomaterials (QEEN) from Manufactured Products—Addressing Environmental, Health, and Safety Implications” on July 7 and 8, 2015. This is a technical workshop with an aim to determine the state of exposure science and the tools and methods available to characterize and quantify exposure to engineered nanomaterials from consumer products. A main goal is to bridge toxicology with exposure science. The workshop will include an overview of the field by exposure science experts, breakout sessions to better understand the challenges and accomplishments thus far in exposure science, and a poster session.

DATES: The Workshop will be held Tuesday, July 7, 2015 from 8:00 a.m. until 6:30 p.m., and Wednesday, July 8, 2015 from 8:00 a.m. until 5:00 p.m.

ADDRESSES: The workshop will be held at the Holiday Inn Rosslyn, 1900 N. Fort Myer Drive, Arlington, VA, 22209.

FOR FURTHER INFORMATION CONTACT: Dr. Shelah Morita, 703-292-4503, smorita@nnco.nano.gov, NNCO. Additional information is posted at http://nano.gov/QEENworkshop.

Registration: Registration opens on May 7, 2015 at http://nano.gov/QEENworkshop. Due to space limitations, pre-registration for the workshop is required. Written notices of participation should be sent to jbeamon@nnco.nano.gov or to Jewel Beamon, 4201 Wilson Blvd., Stafford II, Suite 405, Arlington, VA 22230. Please provide your full name, title, affiliation, and email or mailing address when registering. Registration is on a first-come, first-served basis until capacity is reached or until close of business May 28, 2015.

Meeting Accommodations: Individuals requiring special accommodation to access this workshop should contact Jewel Beamon at 703-292-7741 at least ten business days prior to the meeting so that appropriate arrangements can be made.

Ted Wackler,
Deputy Chief of Staff and Assistant Director.

[FR Doc. 2015-06098 Filed 3-16-15; 8:45 am]

BILLING CODE 3170-W1-P